ENVIRONMENTAL PROTECTION AGENCY

[ER-FRL-6665-1]

Environmental Impacts Statements; Notice of Availability

Responsible Agency: Office of Federal Activities, General Information (202) 564-7167 or http://www.epa.gov/compliance/nepa/ Weekly receipt of Environmental Impact Statements Filed 06/27/2005 Through 07/01/2005 Pursuant to 40 CFR 1506.9.

EIS No. 20050274, Draft EIS, AFS, ND, NE McKenzie Allotment Management Plan Revisions, Proposes to Continue Livestock Grazing on 28 Allotments, Dakota Prairie Grasslands Land and Resource Management Plan, Dakota Prairie Grasslands, McKenzie Ranger District, McKenzie County, ND, Comment Period Ends: 08/22/2005, Contact: Libby Knotts 701-842-3008.

EIS No. 20050275, Final EIS, FHW, WI, WI-26 State Trunk Highway (STH) Improvements, Janesville at IH-90 to STH-60-East north of Watertown Road, Funding, (Project ID 1390-04-00), Rock, Jefferson and Dodge Counties, WI, Wait Period Ends: 08/08/2005, Contact: Johnny Gerbitz 608-829-7511.

EIS No. 20050276, Final EIS, FRC, 00, Entrega Pipeline Project, Construction and Operation New Interstate Natural Gas Pipeline System, Right-of-Way Grant Issue by BLM, Meeker Hub and Cheyenne Hub, Rio Blanco and Weld Counties, CO, and Sweetwater County, WY, Wait Period Ends: 08/08/2005, Contact: Thomas Russo 1-866-208-3372.

EIS No. 20050277, Final EIS, FHW, MO, U.S. Route 67 Corridor Project, Improvements from South of Fredericktown to the South of Neelyville, Madison, Wayne and Butler Counties, MO, Wait Period Ends: 08/08/2005, Contact: Peggy Casey 573-636-7104.

EIS No. 20050278, Draft Supplement, AFS, WA, Upper Charley Subwatershed Ecosystem Restoration Projects, Proposing to Amend the Umatilla National Forests Land and Resource Management Plan to Incorporate Management for Canada lynx, Pomeroy Ranger District, Umatilla National Forest, Garfield County, WA, Comment Period Ends: 08/22/2005, Contact: Monte Fujishin 509-843-1891. This document is available on the Internet at: http://www.fs.fed.us/r6/uma/projects/readroom/pomeroy/up-charley_dseis.pdf.

EIS No. 20050279, Final EIS, NPS, AL, Selma to Montgomery National Historic Trail Comprehensive Management Plan, Implementation, Dallas, Lowndes and Montgomery Counties, AL, Wait Period Ends: , 08/08/2005 Contact: John Barrett 404-562-3124 Ext 637.

EIS No. 20050280, Final EIS, COE, FL, Herbert Hoover Dike Major Rehabilitation Evaluation Study, Proposed to Reduce the Probability of a Breach of Reach One, Lake Okeechobee, Martin and Palm Beach Counties, FL, Wait Period Ends: 08/08/2005, Contact: Rebecca Weis 904-232-1577.

EIS No. 20050281, Draft EIS, AFS, CA, North Fork Eel Grazing Allotment Management Project, Proposing to Authorize Cattle Grazing on Four Allotment, Six Rivers National Forest, Mad River Ranger District, North Fork Eel River and Upper Mad River, Trinity County, CA, Comment Period Ends: 08/22/2005, Contact: Julie Ranieri 707-441-3673.

EIS No. 20050282, Final EIS, FHW, OH, US 33 Nelsonville Bypass Project, To Upgrade Existing Four-Lane Controlled Access Expressway between Haydenville in Hocking County and New Floodwood in Hocking and Athens Counties, OH, Wait Period Ends: 08/08/2005, Contact: Dave Snyder 614-280-6852.

Dated: July 5, 2005.
Ken Mittelholtz,
Environmental Protection Specialist, Office of Federal Activities.

[FR Doc. 05-13469 Filed 7-7-05; 8:45 am]

BILLING CODE 6560-50-P